DEPARTMENT OF THE INTERIOR

Bureau of Land Management

[CA-180]

Notice of Intent To Prepare a Resource Management Plan and Associated Environmental Impact Statement for the Folsom Field Office

AGENCY: Bureau of Land Management, Interior.

ACTION: Notice of intent.

SUMMARY: The Bureau of Land Management (BLM) Field Office in Folsom, California, intends to prepare a Resource Management Plan (RMP) with an associated Environmental Impact Statement (EIS) to guide management activities for the public lands and resources under its jurisdiction. The public scoping process will begin with the publication of this notice. Public scoping meetings, to identify relevant issues and concerns, will be announced in advance through BLM's Web site and in local news media.

DATES: Public meetings will be held throughout the planned scoping and preparation period. In order to ensure local community participation and input, several meetings will be held, at least one for each watershed. Written comments sent to the address listed below will be accepted until further notice. The time and location of public scoping meetings, public comment periods, and comment closing dates will be announced through local news media, direct mailings, and on the Folsom Field Office Web site at http://www.ca.blm.gov/folsom within 15 days of the meetings.

ADDRESSES: Written comments should be sent to “RMP Comments,” BLM, Folsom Field Office, 63 Natoma Street, Folsom, CA 95630, or sent by fax to (916) 985-3259. Documents pertinent to this planning project may be examined at the Folsom Field Office. Comments, including names and street addresses of respondents, will be available for public review at the Folsom Field Office during regular business hours, 7:30 a.m. to 4:30 p.m., Monday through Friday, except holidays, and may be published as part of the RMP/EIS. Individuals who wish to withhold their name or street address from public review or from disclosure under the Freedom of Information Act must state this prominently at the beginning of their written comments. Such requests will be honored to the extent allowed by law. The BLM will not consider anonymous comments. All submissions from organizations and businesses, and from individuals identifying themselves as representatives or officials of organizations or businesses, will be available for public inspection in their entirety.

FOR FURTHER INFORMATION CONTACT: Rick Cooper, RMP Coordinator, BLM, Folsom Field Office, 63 Natoma Street, Folsom, CA 95630, phone (916) 985-4474. To add a name to the RMP mailing list, contact Lou Cutajar, Public Contact Specialist, in the Folsom Field Office.

SUPPLEMENTARY INFORMATION: The Folsom Field Office is responsible for the management of approximately 230,000 acres of public land within fourteen California counties: Colusa, Yuba, Nevada, Sutter, Placer, El Dorado, Sacramento, San Joaquin, Amador, Calaveras, Merced, Stanislaus, Tuolumne, and Mariposa. The BLM will work collaboratively with interested parties to identify the management decisions that are best suited to local, regional, and national needs and concerns.

Preliminary issues and management concerns have been identified by BLM personnel, other agencies, and in meetings with individuals and user groups. The preliminary issues include: Management of public land resources at the watershed level; management of ecosystems and riparian areas to maintain and improve properly functioning conditions; management and protection of sensitive, rare, threatened, or endangered species; management of Wild and Scenic River corridors; implementation of the Federal Wildland Fire Policy; fluid and solid mineral development; meeting the needs of local and regional communities and the effects of a growing urban interface; land tenure adjustments, consideration of lands for special management designation; cultural resource identification, protection, and interpretation; and the provision of recreation opportunities to meet a growing and diverse demand.

These preliminary issues will be further defined by direct input through active public participation. Through the plan scoping process, the public will help identify issues, questions, and concerns to be addressed by the RMP.

An interdisciplinary approach will be used to develop the plan in order to consider the variety of resource issues and concerns identified during the scoping process. The interdisciplinary team involved with the RMP process includes specialists with expertise in minerals and geology, forestry, range, fire and fuels management, outdoor recreation, archaeology, paleontology, botany, wildlife and fisheries, hydrology, lands and realty, soils, air quality, sociology, and economics.

The Folsom Field Office is currently managed under the Sierra Planning Area Management Framework Plan as Amended in 1988. Management under this document will continue until the RMP is approved.

Dated: October 4, 2004.
Deane K. Swickard,
Field Manager.

[FR Doc. 04-26324 Filed 11-26-04; 8:45 am]

BILLING CODE 4310-40-P